DEPARTMENT OF LABOR

Employment and Training Administration

Preliminary Finding of No Significant Impact (FONSI) for the Proposed Relocation of the Cleveland Job Corps Center to be Located at 498 East 140th Street in Cleveland, OH

AGENCY: Employment and Training Administration, Labor.

ACTION: Preliminary Finding of No Significant Impact (FONSI) for the proposed relocation of the Cleveland Job Corps Center to be located at 498 East 140th Street in Cleveland, Ohio.

SUMMARY: Pursuant to the Council on Environmental Quality Regulations (CEQ) (40 CFR part 1500-08) implementing procedural provisions of the National Environmental Policy Act (NEPA), the Employment and Training Administration (ETA) of the Department of Labor (DOL), Office of Job Corps, in accordance with 29 CFR 11.11(d), gives notice that an Environmental Assessment (EA) has been prepared and the proposed plans for the new Cleveland Job Corps Center will have no significant environmental impact, and this Preliminary Finding of No Significant Impact (FONSI) will be made available for public review and comment for a period of 30 days.

DATES: Written comments must be received by January 22, 2002.

ADDRESSES: Any comments are to be submitted to Eric Luetkenhaus, Office of Job Corps, Employment and Training Administration, U.S. Department of Labor, 200 Constitution Ave., NW, Room N4460, Washington, DC 20210, (202) 693-3109 (this is not a toll-free number).

FOR FURTHER INFORMATION CONTACT: Copies of the EA and additional information are available to interested parties by contacting Mr. Stephen Garlington, Regional Director, Region V (Five), U.S. Department of Labor, ETA Office of Youth and Job Corps, Federal Building Room 676, 230 South Dearborn Street, Chicago, IL 60604, (312) 353-2524 (this is not a toll-free number).

SUPPLEMENTARY INFORMATION: The proposed Job Corps Center site is located at 498 East 140th Street in Cleveland, Cuyahoga County, Ohio. The 22.5-acre site, situated on the northwest corner of East 140th Street and Coit Road and is currently part of the overall 46.7-acre Water Tower Park Development. The 22.5 acre site consists of an open, nearly level plain. It is located 8 miles east of downtown Cleveland in a multizoned area. The vicinity surrounding the Center consists primarily of single and multi-family residential dwellings, interspersed with commercial/industrial establishments. In addition, the culverted Nine-Mile Creek runs through the center of the site.

The EA indicates that the only structure on the site is a water tower, which was used to maintain water pressure in the former General Motors' facility water system. The water tower currently is not in use. A structural inspection in 1993 determined that the tower was in good condition. The foundation of the former manufacturing and administrative buildings are located along the south boundary of the site. Fill material was laid down at various depths, on the western quarter of the site. The remaining portion of the site consists of asphalt-paved parking lots, which is in deteriorating condition. The underlying soil is described as Urban Land, which is a soil unit, which has been extensively remodeled with much of it covered with paved surfaces. A large amount of fill material consisting of clay, clay shale and concrete demolition debris has been used to regrade the site. Underlying the Urban Land soil unit is Wisconsian-age Lake Plain material consisting of a fine layering of silt and clay deposits. Underlying the Lake Plain material in this area is a bedrock formation consisting of the Euclid Member of the Devonian-age Ohio shale at a depth of approximately 40 feet. The EA indicates that the area is a poor source for ground water. There are no wetland areas located within the 22.5-acre site.

The proposed new Cleveland Job Corps Center will consist of new buildings in a campus setting. The campus will provide facilities for 350 resident students and 80 nonresident students. Plans include dormitories, academic and vocational classrooms and workshops, administrative offices, dining and food preparation facilities, recreation facilities, storage and support facilities, and medical/dental facilities. Separate male and female dormitory areas will also be provided. The proposed project will be designed and constructed in accordance with the local fire, building, and zoning code requirements.

The construction of Job Corps Center on this parcel would be a positive asset to the area in terms of environmental and socioeconomic improvements and long-term productivity. The proposed Job Corps Center will provide a new source of employment training for the youth in Cleveland, Ohio and the South Collinwood neighborhood. In addition, the Job Corps Program is designed to graduate students to prepare for today's job market and by providing basic education, vocational skills training, work experience, counseling, health care, and related support.

The construction of the Job Corps Center will also have a positive impact on the redevelopment of the Water Tower Park Development and the surrounding neighborhood. It is also expected to result in an increase of area jobs, since personnel will be needed to provide educational, vocational, custodial, food preparation, and security services.

The proposed project will not have any significant adverse impact on any natural system or resource. There are no “historically significant” buildings nor areas of archaeological significance within the boundaries of the site. There is no documentation of threatened or endangered species on the property. There are a number of public parks and the Lake Erie shoreline within 2.5 miles of the property.

The proposal project will not have any significant adverse impact upon air quality and noise levels. The proposed project would not result in degradation of air quality since no new stationary air pollution sources will be constructed. The proposed facility is not expected to result in a significant increase in vehicular traffic since many of the students will either live at the Center or use public transportation. Noise levels in the area are consistent with residential areas. With the exception of the construction period, the noise from the proposed project will be consistent with residential areas as well.

A medical and dental facility will be part of the on-site Job Corps complex to accommodate students. Therefore, there will be no significant adverse effects upon local medical facilities. The Center will have its own security service and meet the latest in applicable fire code requirements. As a result, no significant impact on emergency, fire, and/or police facilities is expected. No significant impact is expected on city utilities such as water, electric, gas, and sanitary since the occupancy rate of the Cleveland Job Corps Center will be significantly less than that of the former General Motors facility.

The proposed project will not have any significant adverse impacts upon the existing surrounding infrastructure represented by water, sewer, and storm water systems. Adequate water is available through the City of Cleveland. The new facility construction is not expected to increase the storm water discharge since the proposed construction would actually reduce the amount of paved surfaces currently on the site. The new facility will result in an increase in sanitary discharge as compared to current conditions. However, the amount of discharge from the new facility will be much less than that of the former General Motors facility, for which the current sanitary sewer system was originally designed. Overall, the increase in sanitary discharges will not have a negative impact on the existing sanitary sewer system due to its former use design capability.

Based on the information gathered during the preparation of the EA, the location of the Job Corps Center on the property located at 498 East 140th Street, in Cleveland, Cuyahoga County, Ohio will not create any significant adverse impact on the environment and, therefore, it is recommended that the project continue as proposed. It should be noted that no sampling of the soil, water, air or any man-made material was conducted during the preparation of the EA.

Dated this 17th day of December, 2001.
Brian V. Kennedy,
Deputy National Director, Job Corps.

[FR Doc. 01-31431 Filed 12-20-01; 8:45 am]

BILLING CODE 4510-30-M